DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 19, 2025. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 19, 2025, OFAC determined that the property and interests in property subject to U.S. jurisdiction of the following persons are blocked under the relevant sanctions authorities listed below.

Individuals

1. VOLOSOVIK, Aleksandr Aleksandrovich (a.k.a. “Ohyeahhellno”; a.k.a. “podzemniy1”; a.k.a. “Yalishanda”), St. Petersburg, Russia; DOB 30 Jan 1983; POB USSR; nationality Russia; citizen Russia; Gender Male; Digital Currency Address—XBT 18dLDAWi8LmrHbEq3QzDJb9SLxCf4uimXB; Secondary sanctions risk: Ukraine-/Russia-Related Sanctions Regulations, 31 CFR 589.201; Passport 762988138 (Russia) issued 01 Apr 2020 expires 01 Apr 2030; Tax ID No. 253609232850 (Russia) (individual) [CAATSA—RUSSIA] [CYBER4].

Designated pursuant to section 1(a)(ii)(C) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659, and as further amended by Executive Order 14144 of January 16, 2025, “Strengthening and Promoting Innovation in the Nation's Cybersecurity,” 90 FR 6755, and Executive Order 14306 of June 6, 2025, “Sustaining Select Efforts To Strengthen the Nation's Cybersecurity and Amending Executive Order 13694 and Executive Order 14144,” 90 FR 24723 (E.O. 13694, as further amended), for being responsible for or complicit in, or having engaged in, directly or indirectly, cyber-enabled activities originating from, or directed by persons located, in whole or in substantial part, outside the United States that are reasonably likely to result in, or have materially contributed to, a threat to the national security, foreign policy, or economic health or financial stability of the United States, and that have the purpose of or involve causing a disruption to the availability of a computer or network of computers or compromising the integrity of the information stored on a computer or network of computers.

2. ZATOLOKIN, Kirill Andreevich (a.k.a. “downlow”), St. Petersburg, Russia; DOB 30 Apr 1992; nationality Russia; citizen Russia; Gender Male; Secondary sanctions risk: Ukraine-/Russia-Related Sanctions Regulations, 31 CFR 589.201; Passport 726146360 (Russia) issued 06 Sep 2013 expires 06 Sep 2023 (individual) [CAATSA—RUSSIA] [CYBER4].

Designated pursuant to section 1(a)(ii)(C) of E.O. 13694, as further amended, for being responsible for or complicit in, or having engaged in, directly or indirectly, cyber-enabled activities originating from, or directed by persons located, in whole or in substantial part, outside the United States that are reasonably likely to result in, or have materially contributed to, a threat to the national security, foreign policy, or economic health or financial stability of the United States, and that have the purpose of or involve causing a disruption to the availability of a computer or network of computers or compromising the integrity of the information stored on a computer or network of computers.

3. PANKOVA, Yulia Vladimirovna, St. Petersburg, Russia; DOB 10 Dec 1996; nationality Russia; citizen Russia; Gender Female; Secondary sanctions risk: Ukraine-/Russia-Related Sanctions Regulations, 31 CFR 589.201; Passport 753221719 (Russia) issued 25 May 2016 expires 25 May 2026; Tax ID No. 743016842436 (Russia) (individual) [CAATSA—RUSSIA] [CYBER4].

Designated pursuant to section 1(a)(iii)(C) of E.O. 13694, as further amended, for having materially assisted, sponsored, or provided financial, material, or technological support for, or goods or services to or in support of, ALEKSANDR ALEKSANDROVICH VOLOSOVIK, a person whose property and interests in property are blocked pursuant to E.O. 13694, as further amended.

4. MAKAROV, Maksim Vladimirovich, Russia; DOB 23 Mar 1989; nationality Russia; Gender Male; Secondary sanctions risk: Ukraine-/Russia-Related Sanctions Regulations, 31 CFR 589.201; Passport 772555187 (Russia) issued 19 Feb 2024 expires 19 Feb 2034; Tax ID No. 244309586068 (Russia) (individual) [CAATSA—RUSSIA] [CYBER4] (Linked To: AEZA GROUP LLC).

Designated pursuant to section 1(a)(iii)(F) of E.O. 13694, as further amended, for being or having been a leader, official, senior executive officer, or member of the board of directors of AEZA GROUP LLC, an entity whose property and interests in property are blocked pursuant to E.O. 13694, as further amended.

5. ZAKIROV, Ilya Vladislavovich, Russia; DOB 20 Nov 1999; nationality Russia; Gender Male; Secondary sanctions risk: Ukraine-/Russia-Related Sanctions Regulations, 31 CFR 589.201; Tax ID No. 165504427793 (Russia) (individual) [CAATSA—RUSSIA] [CYBER4] (Linked To: AEZA GROUP LLC).

Designated pursuant to section 1(a)(iii)(C) of E.O. 13694, as further amended, for having materially assisted, sponsored, or provided financial, material, or technological support for, or goods or services to or in support of, AEZA GROUP LLC, a person whose property and interests in property are blocked pursuant to E.O. 13694, as further amended.

Entities

1. MEDIA LAND, LLC (a.k.a. MEDIA LEND), Zastavskaya st., n. 33, Office 6A300, Saint Petersburg 196084, Russia; Tsvetochnaya St., 16 Litera P, Room 27, Moskovskaya Zastava Municipal District, Saint Petersburg 196066, Russia; Secondary sanctions risk: Ukraine-/Russia-Related Sanctions Regulations, 31 CFR 589.201; Organization Established Date 19 Oct 2015; Tax ID No. 2536288610 (Russia); Registration Number 1152536009900 (Russia) [CAATSA—RUSSIA] [CYBER4].

Designated pursuant to section 1(a)(ii)(C) of E.O. 13694, as further amended, for being responsible for or complicit in, or having engaged in, directly or indirectly, cyber-enabled activities originating from, or directed by persons located, in whole or in substantial part, outside the United States that are reasonably likely to result in, or have materially contributed to, a threat to the national security, foreign policy, or economic health or financial stability of the United States, and that have the purpose of or involve causing a disruption to the availability of a computer or network of computers or compromising the integrity of the information stored on a computer or network of computers.

2. ML.CLOUD, LLC (a.k.a. ML.CLOUD), Tsvetochnaya St., 16 Litera P, Room 28, Moskovskaya Zastava Municipal District, Saint Petersburg 196006, Russia; Suite 1802, Lippo Centre, Tower One, 89 Queensway, Hong Kong, China; website ml.cloud; Secondary sanctions risk: Ukraine-/Russia-Related Sanctions Regulations, 31 CFR 589.201; Organization Established Date 27 Jan 2022; Tax ID No. 7810938831 (Russia); Registration Number 1227800008182 (Russia) [CAATSA—RUSSIA] [CYBER4].

Designated pursuant to section 1(a)(ii)(C) of E.O. 13694, as further amended, for being responsible for or complicit in, or having engaged in, directly or indirectly, cyber-enabled activities originating from, or directed by persons located, in whole or in substantial part, outside the United States that are reasonably likely to result in, or have materially contributed to, a threat to the national security, foreign policy, or economic health or financial stability of the United States, and that have the purpose of or involve causing a disruption to the availability of a computer or network of computers or compromising the integrity of the information stored on a computer or network of computers.

3. MEDIA LAND TECHNOLOGY LIMITED LIABILITY COMPANY (a.k.a. “MLT LLC”), Sh. Volkhovskoe Zd.11, Office 313, Kirishi 187110, Russia; Secondary sanctions risk: Ukraine-/Russia-Related Sanctions Regulations, 31 CFR 589.201; Organization Established Date 14 Sep 2022; Tax ID No. 4727007790 (Russia); Registration Number 1224700016089 (Russia) [CAATSA—RUSSIA] [CYBER4] (Linked To: MEDIA LAND, LLC).

Designated pursuant to section 1(a)(iii)(D) of E.O. 13694, as further amended, for being owned or controlled by, or having acted or purported to act for or on behalf of, directly or indirectly, MEDIA LAND, LLC, a person whose property and interests in property are blocked pursuant to E.O. 13694, as further amended.

4. DATA CENTER KIRISHI LIMITED LIABILITY COMPANY (a.k.a. DC KIRISHI LLC), Sh. Volkhovskoe Zd.95, Pomeshch. 1, Sh. Volkhovskoe Zd.11, Kirishi 187110, Russia; Secondary sanctions risk: Ukraine-/Russia-Related Sanctions Regulations, 31 CFR 589.201; Organization Established Date 01 Jul 2022; Registration ID 1224700010908 (Russia); Tax ID No. 4727007461 (Russia) [CAATSA—RUSSIA] [CYBER4] (Linked To: MEDIA LAND, LLC).

Designated pursuant to section 1(a)(iii)(D) of E.O. 13694, as further amended, for being owned or controlled by, or having acted or purported to act for or on behalf of, directly or indirectly, MEDIA LAND, LLC, a person whose property and interests in property are blocked pursuant to E.O. 13694, as further amended.

5. DATAVICE MCHJ, 3 Irrigator Massive, Hamid Olimjon MFY, Tashkent, Uzbekistan; Secondary sanctions risk: Ukraine-/Russia-Related Sanctions Regulations, 31 CFR 589.201; Organization Established Date 03 Jul 2025; Tax ID No. 312252645 (Uzbekistan); Business Registration Number 2868352 (Uzbekistan) [CAATSA—RUSSIA] [CYBER4] (Linked To: AEZA GROUP LLC).

Designated pursuant to section 1(a)(iii)(D) of E.O. 13694, as further amended, for being owned or controlled by, or having acted or purported to act for or on behalf of, directly or indirectly, AEZA GROUP LLC, a person whose property and interests in property are blocked pursuant to E.O. 13694, as further amended.

6. SMART DIGITAL IDEAS DOO, Jurija Gagarina 231, Lok 329, Belgrade, Serbia; website smartdi.rs; Secondary sanctions risk: Ukraine-/Russia-Related Sanctions Regulations, 31 CFR 589.201; Tax ID No. 113294246 (Serbia); Business Registration Number 21840823 (Serbia) [CAATSA—RUSSIA] [CYBER4] (Linked To: AEZA GROUP LLC).

Designated pursuant to section 1(a)(iii)(C) of E.O. 13694, as further amended, for having materially assisted, sponsored, or provided financial, material, or technological support for, or goods or services to or in support of, AEZA GROUP LLC, a person whose property and interests in property are blocked pursuant to E.O. 13694, as further amended.

7. HYPERCORE LTD, 120 Fleet Street, London EC4A 2BE, United Kingdom; Secondary sanctions risk: Ukraine-/Russia-Related Sanctions Regulations, 31 CFR 589.201; Organization Established Date 03 Jul 2025; Company Number 16558658 (United Kingdom) [CAATSA—RUSSIA] [CYBER4] (Linked To: AEZA GROUP LLC).

Designated pursuant to section 1(a)(iii)(D) of E.O. 13694, as further amended, for being owned or controlled by, or having acted or purported to act for or on behalf of, directly or indirectly, AEZA GROUP LLC, a person whose property and interests in property are blocked pursuant to E.O. 13694, as further amended.

Bradley T. Smith,
Director, Office of Foreign Assets Control.

[FR Doc. 2025-20573 Filed 11-20-25; 8:45 am]

BILLING CODE 4810-AL-P